DEPARTMENT OF THE TREASURY

Internal Revenue Service

26 CFR Part 1

[REG-165868-01]

RIN 1545-BA47

10 or More Employer Plans; Hearing

AGENCY: Internal Revenue Service (IRS), Treasury.

ACTION: Change of date and location of public hearing.

SUMMARY: This document changes the date and location of a public hearing on proposed regulations relating to 10 or more employer plans under section 419 of the Internal Revenue Code.

DATES: The public hearing originally scheduled for Tuesday, November 5, 2002, at 10 a.m., in room 4718, is rescheduled for Thursday, November 14, 2002, at 10 a.m., in room 2140.

ADDRESSES: The public hearing originally scheduled to be in room 4718 of the Internal Revenue Building, 1111 Constitution Avenue, NW., Washington, DC. will be held in room 2140 of the Internal Revenue Building, 1111 Constitution Avenue, NW., Washington, DC.

FOR FURTHER INFORMATION: Guy R. Traynor of the Regulations Unit, Associate Chief Counsel, (Income Tax & Accounting), (202) 622-7180 (not a toll-free number).

SUPPLEMENTARY INFORMATION: A notice of proposed rulemaking and notice of public hearing appearing in the Federal Register on Thursday, July 11, 2002 (67 FR 45933), announced that a public hearing on proposed regulations relating to 10 or more employer plans under section 419 of the Internal Revenue Code would be held on Tuesday, November 5, 2002, beginning at 10 a.m. in room 4718 of the Internal Revenue Building, 1111 Constitution Avenue, NW., Washington, DC.

The date and location of the public hearing has changed. The hearing is scheduled for Thursday, November 14, 2002, beginning at 10 a.m. in room 2140, Internal Revenue Building, 1111 Constitution Avenue, NW., Washington, DC. We must receive requests to speak and outlines of oral comments by October 24, 2002. Because of the controlled access restrictions, attenders are not admitted beyond the lobby of the Internal Revenue Building until 9:30 a.m. The Service will prepare an agenda showing the scheduling of the speakers after the outlines are received from the persons testifying and make copies available free of charge at the hearing.

Cynthia E. Grigsby,
Chief, Regulations Unit, Associate Chief Counsel, (Income Tax & Accounting).

[FR Doc. 02-23100 Filed 9-10-02; 8:45 am]

BILLING CODE 4830-01-P